DEPARTMENT OF THE INTERIOR

Fish and Wildlife Service

Endangered and Threatened Species Permit Applications

ACTION: Notice of Receipt of Applications.

SUMMARY: The following applicants have applied for a permit to conduct certain activities with endangered species. This notice is provided pursuant to section 10(a) of the Endangered Species Act of 1973, as amended (16 U.S.C. 1531, et seq.).

Permit No. TE-827367

Applicant: Bureau of Land Management, Lake Havasu City, Arizona.

Applicant requests authorization for recovery purposes to conduct activities for the southwestern willow flycatcher (Empidonax traillii extimus), Yuma clapper rail (Rallus longirostris yumanensis), and Mohave Desert tortoise (Gopherus agassizii) in Arizona.

Permit No. TE-839505

Applicant: Aaron D. Flesch, Tucson, Arizona.

Applicant requests authorization for recovery purposes to conduct presence/absence surveys for the southwestern willow flycatcher (Empidonax traillii extimus) in Arizona and New Mexico.

Permit No. TE-26700

Applicant: John A. Kugler, Sonoita, Arizona.

Applicant requests authorization for recovery purposes to conduct presence/absence surveys for the Gila topminnow (Poeciliopsis occidentalis), and desert pupfish (Cyprinodon macularius) in Santa Cruz, Cochise, Graham, Pima, Maricopa, and Yuma Counties, Arizona.

Permit No. TE-28362

Applicant: Bureau of Land Management, Arizona Strip Field Office, St. George, Utah.

Applicant requests authorization for recovery purposes to conduct presence/absence surveys for the Mexican spotted owl (Strix occidentalis lucida), southwestern willow flycatcher (Empidonax traillii extimus), woundfin (Plagopterus argentissimus), Virgin River chub (Gila seminuda) and the California condor (Gymnogyps Californianus) in Mohave and Coconino counties, north of the Colorado River, and the Virgin River in Arizona.

Permit No. TE-28652

Applicant: Jean Krejca, Austin, Texas.

Applicant requests authorization for scientific research and recovery purposes to collect the following endangered or threatened species in Texas:

Peck's Cave amphipod (Stygobromus pecki)

Coffin Cave Mold beetle (Batrisodes texanus)

Kretschmarr Cave Mold beetle (Texamaurops reddelli)

Tooth Cave ground beetle (Rhadine persephone)

Tooth Cave Pseudoscorpion (Tartarocreagris texana)

Bee Creek Cave harvestman (Texella reddelli)

Bone Cave harvestman (Texella reyesi)

Tooth Cave spider (Neoleptoneta myopica)

Texas blind salamander (Typhlomolge rathbuni)

Mexican long-nosed bat (Leptonycteris nivalis)

Barton Springs salamander (Eurycea sosorum)

The following species will not be collected but potentially impacted.

San Marcos salamander (Eurycea nana)

fountain darter (Etheostoma fonticola)

Big Bend gambusia (Gambusia gaigei)

Clear Creek gambusia (Gambusia heterochir)

Pecos gambusia (Gambusia nobilis)

San Marcos gambusia (Gambusia georgei)

Comanche Springs pupfish (Cyprinodon elegans)

Leon Springs pupfish (Cyprinodon bovinus)

Comal Springs dryopid beetle (Stygoparnus comalensis)

Comal Springs riffle beetle (Heterelmis comalensis)

Texas wild rice (Zizania texana)

Permit No. TE-28649

Applicant: Chris Thibodaux, Austin, Texas.

Applicant requests authorization for scientific research and recovery purposes to collect the following endangered or threatened species in Texas:

Peck's Cave amphipod (Stygobromus pecki)

Coffin Cave Mold beetle (Batrisodes texanus)

Kretschmarr Cave Mold beetle (Texamaurops reddelli)

Tooth Cave ground beetle (Rhadine persephone)

Tooth Cave Pseudoscorpion (Tartarocreagris texana)

Bee Creek Cave harvestman (Texella reddelli)

Bone Cave harvestman (Texella reyesi)

Tooth Cave spider (Neoleptoneta myopica)

Texas blind salamander (Typhlomolge rathbuni)

Mexican long-nosed bat (Leptonycteris nivalis)

Barton Springs salamander (Eurycea sosorum)

The following species will not be collected but potentially impacted.

San Marcos salamander (Eurycea nana)

fountain darter (Etheostoma fonticola)

Big Bend gambusia (Gambusia gaigei)

Clear Creek gambusia (Gambusia heterochir)

Pecos gambusia (Gambusia nobilis)

San Marcos gambusia (Gambusia georgei)

Comanche Springs pupfish (Cyprinodon elegans)

Leon Springs pupfish (Cyprinodon bovinus)

Comal Springs dryopid beetle (Stygoparnus comalensis)

Comal Springs riffle beetle (Heterelmis comalensis)

Texas wild rice (Zizania texana)

Permit No. TE-28986

Applicant: Arizona Department of Transportation—Environmental Planning Group, Phoenix, Arizona.

Applicant requests authorization for recovery purposes to conduct presence/absence surveys for the following endangered and threatened species in various counties in Arizona:

southwestern willow flycatcher (Empidonax traillii extimus)

cactus ferruginous pygmy-owl (Glaucidium brasilianum cactorum)

Gila trout (Oncorhynchus gilae)

Gila topminnow (Poeciliopsis occidentalis occidentalis)

Colorado pikeminnow (Ptychocheilus lucius)

razorback sucker (Xyrauchen texanus) spikedace (Meda fulgida)

loach minnow (Rhinichthys (=Tiaroga) cobitis)

Little Colorado spinedace (Lepidomeda vittata)

Arizona agave (Agave arizonica)

Arizona cliffrose (Purshia subintegra)

Arizona hedgehog cactus (Echinocereus triglochidiatus arizonicus)

Pima pineapple cactus (Coryphantha scheeri robustispina)

DATES: Written comments on these permit applications must be received on or before July 31, 2000.

ADDRESSES: Written data or comments should be submitted to the Legal Instruments Examiner, Division of Endangered Species/Permits, Ecological Services, P.O. Box 1306, Albuquerque, New Mexico 87103. Please refer to the respective permit number for each application when submitting comments. All comments received, including names and addresses, will become part of the official administrative record and may be made available to the public.

FOR FURTHER INFORMATION CONTACT: The U.S. Fish and Wildlife Service, Ecological Services, Division of Endangered Species/Permits, P.O. Box 1306, Albuquerque, New Mexico 87103. Please refer to the respective permit number for each application when requesting copies of documents. Documents and other information submitted with these applications are available for review, subject to the requirements of the Privacy Act and Freedom of Information Act, by any party who submits a written request for a copy of such documents within 30 days of the date of publication of this notice, to the address above.

Steven M. Chambers,
Assistant Regional Director, Ecological Services, Region 2, Albuquerque, New Mexico.

[FR Doc. 00-16438 Filed 6-28-00; 8:45 am]

BILLING CODE 4310-55-P